DEPARTMENT OF THE INTERIOR

National Park Service

[NPS-WASO-NAGPRA-NPS0034334; PPWOCRADN0-PCU00RP14.R50000]

Notice of Inventory Completion: Alabama Department of Transportation, Montgomery, AL

AGENCY: National Park Service, Interior.

ACTION: Notice.

SUMMARY: The Alabama Department of Transportation (ALDOT) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to ALDOT. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to ALDOT at the address in this notice by September 12, 2022.

FOR FURTHER INFORMATION CONTACT: William B. Turner, Alabama Department of Transportation, 1409 Coliseum Blvd., Montgomery, AL 36110, telephone (334) 242-6144, email turnerw@dot.state.al.us.

SUPPLEMENTARY INFORMATION: Notice is here given in accordance with the Native American Graves Protection and Repatriation Act (NAGPRA), 25 U.S.C. 3003, of the completion of an inventory of human remains and associated funerary objects under the control of the Alabama Department of Transportation, Montgomery, AL. The human remains and associated funerary objects were removed from the Hook Creek Site (1Et182) near Turkeytown, in Etowah County, AL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Tennessee Valley Archaeological Research and Alabama Department of Transportation professional staff in consultation with representatives of The Muscogee (Creek) Nation.

History and Description of the Remains

Between November of 2020 and January of 2021, human remains representing, at minimum, 13 individuals were removed from the Hook Creek Site (1Et182) in Etowah County, AL. The human remains were recovered during Phase III Data Recovery excavations conducted by Tennessee Valley Archaeological Research (TVAR) archeologists prior to the construction of additional lanes on US 411 (ALDOT project STPAA-0137(010)). No known individuals were identified. The 121 associated funerary objects are 57 pottery sherds, 41 pieces of stone debitage, one biface, four hafted bifaces, two greenstone fragments, one unmodified quartz cobble, one possible fish bone, four lots of unmodified stone, five lots of carbonized wood, one lot of fired clay, one lot of fire-cracked rock, one lot of blocky chert, and one lot of burial fill (approximately 300 cubic feet of unscreened burial fill segregated by individual burial feature per a request by The Muscogee (Creek) Nation that all burial fill be retained).

An early Late Archaic occupation of the site is indicated by the recovery of Ledbetter hafted bifaces and a possible associated structure, while a more extensive Late Woodland component associated with the Coker Ford phase is most evident in those portions of the site where human remains were encountered. The Coker Ford phase is defined primarily by a pottery assemblage dominated by Mulberry Creek Plain and small triangular arrow points, such as Hamilton and Madison projectile points (Walthall 1980:147-148). In addition to small triangular projectile points and a diagnostic Coker Ford ceramic assemblage recovered from site 1ET182, two Late Woodland radiocarbon assays were generated from carbonized materials. A sample from Feature 11 yielded a 2-sigma calibrated date of A.D. 765-895, A.D. 714-744, and A.D. 928-940 and a sample from Feature 1 yielded a 2-sigma calibrated date of A.D. 574-657. Based on information obtained during consultation, site 1ET182 is located within the historically Muskogean Language area.

Determinations Made by the Alabama Department of Transportation

Officials of the Alabama Department of Transportation have determined that:

• Pursuant to 25 U.S.C. 3001(9), the human remains described in this notice represent the physical remains of 13 individuals of Native American ancestry.

• Pursuant to 25 U.S.C. 3001(3)(A), the 121 objects described in this notice are reasonably believed to have been placed with or near individual human remains at the time of death or later as part of the death rite or ceremony.

• Pursuant to 25 U.S.C. 3001(2), there is a relationship of shared group identity that can be reasonably traced between the Native American human remains and associated funerary objects and The Muscogee (Creek) Nation.

Additional Requestors and Disposition

Lineal descendants or representatives of any Indian Tribe or Native Hawaiian organization not identified in this notice that wish to request transfer of control of these human remains and associated funerary objects should submit a written request with information in support of the request to William B. Turner, Alabama Department of Transportation, 1409 Coliseum Blvd., Montgomery, AL 36110, telephone (334) 242-6144, email turnerw@dot.state.al.us, by September 12, 2022. After that date, if no additional requestors have come forward, transfer of control of the human remains and associated funerary objects to The Muscogee (Creek) Nation may proceed.

The Alabama Department of Transportation is responsible for notifying The Muscogee (Creek) Nation that this notice has been published.

Dated: August 3, 2022.
Melanie O'Brien,
Manager, National NAGPRA Program.

[FR Doc. 2022-17295 Filed 8-10-22; 8:45 am]

BILLING CODE 4312-52-P